DEPARTMENT OF AGRICULTURE

Virtual Public Listening Session; Natural Resources Conservation Service Programs and Western Water Quantity

Correction

In notice document 2020-26525 appearing on pages 78114-78115 in the issue of December 3, 2020, make the following correction:

On page 78114, in the third column, under the DATES heading, in the 9th line, “December 18, 2020” should read “December 8, 2020.”

[FR Doc. C1-2020-26525 Filed 12-7-20; 11:15 am]

BILLING CODE 1301-00-D